NATIONAL SCIENCE FOUNDATION

Sunshine Act Meeting; National Science Board

The National Science Board's Committee on Awards and Facilities (A&F), pursuant to NSF regulations (45 CFR part 614), the National Science Foundation Act, as amended (42 U.S.C. 1862n-5), and the Government in the Sunshine Act (5 U.S.C. 552b), hereby gives notice of the scheduling of a teleconference for the transaction of National Science Board business, as follows:

DATES AND TIME: Friday, June 16, 2017 from 11:00 a.m.-12:00 p.m. EDT.

SUBJECT MATTER: Committee Chair's opening remarks; discussion of Information-Action Item Sequence; the Lead Reviewer Guide; the Portfolio Level Information in Facility Portal; and Committee Chair's closing remarks.

STATUS: Open.

LOCATION: This meeting will be held by teleconference at the National Science Foundation, 4201 Wilson Blvd., Arlington, VA 22230. An audio link will be available for the public. Members of the public must contact the Board Office to request the public audio link by sending an email to nationalsciencebrd@nsf.gov at least 24 hours prior to the teleconference.

UPDATES AND POINT OF CONTACT: Please refer to the National Science Board Web site www.nsf.gov/nsb for additional information. Meeting information and updates (time, place, subject matter or status of meeting) may be found at http://www.nsf.gov/nsb/notices/. Point of contact for this meeting is: Elise Lipkowitz, 4201 Wilson Blvd., Arlington, VA 22230. Telephone: (703) 292-7000.

Chris Blair,
Executive Assistant to the NSB Office.

[FR Doc. 2017-12133 Filed 6-7-17; 4:15 pm]

BILLING CODE 7555-01-P